COMMISSION ON CIVIL RIGHTS

Sunshine Act Meeting Notice

AGENCY: United States Commission on Civil Rights.

ACTION: Notice of Commission public business meeting.

DATES: Friday, January 16, 2026, 10:00 a.m. EST.

ADDRESSES: Meeting to take place telephonically.

It will also be livestreamed on the Commission's YouTube page: https://www.youtube.com/user/USCCR/videos.

FOR FURTHER INFORMATION CONTACT: Joe Kim: 202-499-0263; publicaffairs@usccr.gov.

SUPPLEMENTARY INFORMATION: In accordance with the Government in Sunshine Act (5 U.S.C. 552b), the Commission on Civil Rights is holding a meeting to discuss the Commission's business for the month of January. This business meeting is open to the public. Computer assisted real-time transcription (CART) will be provided. The web link to access CART (in English) on Friday, January 16, 2026, is https://www.streamtext.net/player?event=USCCR. Please note that CART is text-only translation that occurs in real time during the meeting and is not an exact transcript.

Meeting Agenda

I. Approval of Agenda

II. Business Meeting

A. State Advisory Committee Presentations

B. Management and Operations

• Staff Director's Report

III. Adjourn Meeting

Dated: January 12, 2026.
David Mussatt,
Supervisory Chief, Regional Programs Unit, USCCR.

[FR Doc. 2026-00636 Filed 1-13-26; 11:15 am]

BILLING CODE 6335-01-P